DEPARTMENT OF ENERGY

Federal Energy Regulatory Commission

Combined Notice of Filings #1

Take notice that the Commission received the following electric rate filings:

Docket Numbers: ER15-2013-004; ER15-2020-003.

Applicants: Talen Energy Marketing, LLC, Talen Montana, LLC.

Description: Supplement to December 22, 2016 Triennial Market Rate Based Update for Northwest Region of Talen Energy Marketing, LLC, et al.

Filed Date: 6/12/17.

Accession Number: 20170612-5151.

Comments Due: 5 p.m. ET 7/3/17.

Docket Numbers: ER17-1061-001.

Applicants: Midcontinent Independent System Operator, Inc.

Description: Tariff Amendment: 2017-06-12_Deficiency response re Pseudo-Tie Agreement Filing to be effective 3/15/2017.

Filed Date: 6/12/17.

Accession Number: 20170612-5126.

Comments Due: 5 p.m. ET 7/3/17.

Docket Numbers: ER17-1532-001.

Applicants: Golden Spread Electric Cooperative, Inc.

Description: Tariff Amendment: Clarification to Amended and Restated WPC to be effective 5/3/2017.

Filed Date: 6/12/17.

Accession Number: 20170612-5064.

Comments Due: 5 p.m. ET 7/3/17.

Docket Numbers: ER17-1800-000.

Applicants: Northern States Power Company, a Minnesota corporation.

Description: § 205(d) Rate Filing: South Dakota Rev TSA-385-0.0.0 to be effective 1/1/2017.

Filed Date: 6/12/17.

Accession Number: 20170612-5137.

Comments Due: 5 p.m. ET 7/3/17.

Docket Numbers: ER17-1801-000.

Applicants: American Transmission Systems, Incorporated, Mid-Atlantic Interstate Transmission, LLC, PJM Interconnection, L.L.C.

Description: § 205(d) Rate Filing: ATSI and MAIT submit Seven Engineering and Construction Services Agreements to be effective 8/12/2017.

Filed Date: 6/13/17.

Accession Number: 20170613-5019.

Comments Due: 5 p.m. ET 7/5/17.

Docket Numbers: ER17-1802-000.

Applicants: Fowler Ridge II Wind Farm LLC.

Description: § 205(d) Rate Filing: Revised Market-Based Rate Tariff to be effective 8/12/2017.

Filed Date: 6/12/17.

Accession Number: 20170612-5177.

Comments Due: 5 p.m. ET 7/3/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/ docs-filing/efiling/filing-req.pdf. For other information, call (866) 208-3676 (toll free). For TTY, call (202) 502-8659.

Dated: June 13, 2017.
Kimberly D. Bose,
Secretary.

[FR Doc. 2017-12660 Filed 6-16-17; 8:45 am]

BILLING CODE 6717-01-P